PEACE CORPS

Proposed Agency Information Colleciton Activities: PC-425-1, Fellows/USA Program Improvement Survey

AGENCY: Peace Corps.

ACTION: Notice of submission for OMB Review, comment request.

SUMMARY: The Peace Corps Fellows/USA program is announcing an opportunity for public comment on the proposed collection of certain information by the agency. Under the Paperwork Reduction Act, 44 U.S.C. 3501 et seq. the Peace Corps is required to publish notice in the Federal Register concerning each proposed collection of information, including each proposed extension of revision of a collection of information and to allow 30 days for public comment in response to the notice. This notice solicits comments on the Fellows/USA Program Improvement Survey.

DATES: Comments must be submitted on or before May 5, 2006.

ADDRESSES: Comments should be mailed to Mr. Benjamin Helwig, Fellows/USA Programs, Peace Corps, 1111 20th Street, NW., Room 2150, Washington, DC 20526. Mr. Helwig can be contacted by telephone at 202-692-1438 or 800-424-8580 ext. 1438 or e-mail at bhelwig@peacecorps.gov. E-mail comments must be made in text and not in attachments.

FOR FURTHER INFORMATION CONTACT: Mr. Benjamin Helwig, Fellows/USA Program, Peace Corps, 1111 20th Street, NW., Room 2150, Washington, DC 20526. Mr. Helwig can be contacted by telephone at 202-692-1438 or 800-424-8580 ext 1438 or e-mail at bhelwig@peacecorps.gov. E-mail comments must be made in text and not in attachments.

SUPPLEMENTARY INFORMATION: Pursuant to the Paperwork Reduction Act, 44 U.S.C. 3501 et seq., the Peace Corps Fellows/USA program is seeking comments on the Fellows/USA Inquirer's Survey prior to its submission for on OMB control number. The purpose of this notice is to solicit public comments on whether: (1) The proposed collection of information is necessary for the proper performance of the Peace Corps Fellows/USA program, including whether information will have practical use; (2) the agency's estimate of the burden of the proposed collection of information, including the validity of the methodology and assumptions used is accurate; (3) there are ways to enhance the quality, utility, and clarity of the information to be collected; and (4) there are ways to minimize the burden of collection of information on those who are to respond, including through the use of automated collection techniques, when appropriate, and other forms of technology. A copy of the proposed information collection form can be obtained from Mr. Benjamin Helwig, Fellows/USA Program, Peace Corps, 1111 20th Street, NW., Room 2150, Washington, DC 20526. Mr. Helwig can be contacted by telephone at 202-692-1438 or 800-424-8580 ext. 1438 or e-mail at bhelwig@peacecorps.gov. Comments on the form should be addressed to the attention of Mr. Helwig and should be received on or before May 5, 2006.

OMB Control Number: N/A.

Title: Fellows/USA Program Improvement Survey.

Need and Uses: This form is intended to receive feedback only from Returned Peace Corps Volunteers (RPCVs) who have previously contacted the Fellows/USA Office at Peace Corps for information on the Fellows/USA program but have not enrolled in the program to date. Response is voluntary. The information gathered is needed and will be used internally to improve the program and make Fellows/USA more responsive to the educational needs of RPCVs.

Type of Review: New Collection.

Respondents: Returned Peace Corps Volunteers who have previously contacted the Fellows/USA Office at Peace Corps for information on the Fellows/USA program but have not enrolled in the program to date.

Respondents Obligation to Reply: Voluntary.

Burden on the Public:

a. Annual reporting burden: 80 hours.

b. Annual record keeping burden: 0 hours.

c. Estimated average burden per response: 8 minutes.

d. Frequency of response: One time.

e. Estimated number of likely respondents: 600.

f. Estimated costs to respondents: 0.

This notice issued in Washington, DC, on March 28, 2006.
Al Miller,
Chief, Administrative Services Division.

[FR Doc. 06-3244 Filed 4-4-06; 8:45 am]

BILLING CODE 6051-01-M